DEPARTMENT OF TRANSPORTATION

Federal Aviation Administration

[Docket No. FAA-2020-0799]

Agency Information Collection Activities: Requests for Comments; Clearance of Renewed Approval of Information Collection: Certification: Mechanics, Repairman, Parachute Riggers.

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 19, 2020. The collection involves 14 CFR part 65 requirements for mechanics, repairmen, parachute riggers, and inspection authorization. The information to be collected will be used to determine applicant eligibility for certification or authorization.

DATES: Written comments should be submitted by January 19, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Tanya Glines by email at: Tanya.glines@faa.gov; phone: 202-380-5869

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0022.

Title: Certification: Mechanics, Repairman, Parachute Riggers.

Form Numbers: FAA Form 8610-1, FAA Form 8610-2, FAA Form 8610-3.

Type of Review: Renewal of an information collection.

Background: The Federal Register Notice with a 60-day comment period soliciting comments on the following collection of information was published on August 19, 2020 (85 FR 51144). 14 CFR part 65 prescribes, among other things, rules governing the issuance of certificates and associated ratings for mechanics, repairmen, parachute riggers, and the issuance and renewal of inspection authorizations.

The information is collected on forms submitted by applicants for mechanic, repairman, or parachute rigger certificates, or applicants for an initial or renewed inspection authorization. The information is used for evaluation by the FAA, and is necessary for determining eligibility for issuance of a certificate, rating, or authorization.

Applicants for a light-sport repairman certificate must complete a prescribed number of training hours, based on the repairman rating and class of aircraft being applied for. Parachute riggers must maintain records of the packing, maintenance, and alteration of parachutes performed or supervised by the parachute rigger. Applicants who fail a required certification test, and who test within 30 days of that test failure, must present a signed statement certifying that the applicant has received additional instruction in each of the subjects failed.

A new FAA form is being proposed for repairman applications. In lieu of repairman applicant information being collected on FAA Form 8610-2 as currently required, it will be collected on a new FAA Form 8610-3.

Respondents: 36,000 mechanic, parachute rigger, and repairman applicants.

Frequency: On occasion.

Estimated Average Burden per Response: 20 minutes.

Estimated Total Annual Burden: 40,000 hours.

Issued in Washington, DC on December 15, 2020.
Tanya A. Glines,
Aviation Safety Inspector, Safety Standards, General Aviation Maintenance Branch.

[FR Doc. 2020-27922 Filed 12-17-20; 8:45 am]

BILLING CODE 4910-13-P